FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 3106F.

Name: I.T.E.C., Inc.

Address: 165 Harrington Avenue, Warwick, RI 02888.

Date Revoked: September 2, 2010.

Reason: Failed to maintain a valid bond.

License Number: 3565F.

Name: B.A. International Forwarding Inc.

Address: 360 Sylvan Avenue, Englewood Cliffs, NJ 07362.

Date Revoked: September 25, 2010.

Reason: Failed to maintain a valid bond.

License Number: 4481F.

Name: JFJ Freight Forwarders Inc.

Address: 13100 NW 113th Avenue Road, Miami, FL 33178.

Date Revoked: September 16, 2010.

Reason: Failed to maintain a valid bond.

License Number: 8655N.

Name: Carpe Air & Sea Shipping, Inc.

Address: 360 Sylvan Avenue, Englewood Cliffs, NJ 07632.

Date Revoked: September 25, 2010.

Reason: Failed to maintain a valid bond.

License Number: 13853N.

Name: Unitas Shipping Inc.

Address: 177-25 Rockaway Blvd., Suite 203, Jamaica, NY 11434.

Date Revoked: September 10, 2010.

Reason: Failed to maintain a valid bond.

License Number: 020298NF.

Name: A A Shipping Incorporated.

Address: 11526 Harwin Drive, Houston, TX 77072.

Date Revoked: September 27, 2010.

Reason: Failed to maintain valid bonds.

License Number: 020634NF.

Name: Sofilink Continental, Inc.

Address: 6313 NW 99th Avenue, Miami, FL 33178.

Date Revoked: September 23, 2010.

Reason: Failed to maintain valid bonds.

License Number: 021509N.

Name: Apex Maritime Co. (PDX) Inc.

Address: 11818 SE Mill Plain Blvd., Suite 309, Vancouver, WA 98684.

Date Revoked: September 16, 2010.

Reason: Failed to maintain a valid bond.

License Number: 021520NF.

Name: GFS Global Logistics, LLC.

Address: 1691 Phoenix Blvd., Suite 170, Atlanta, GA 30349.

Date Revoked: October 1, 2010.

Reason: Surrendered license voluntarily.

License Number: 021953F.

Name: Express Shipping Company of Illinois.

Address: 670 E. Northwest Hwy., 2nd Floor, Arlington Heights, IL 60004.

Date Revoked: September 2, 2010.

Reason: Failed to maintain a valid bond.

Sandra L. Kusumoto,
Director, Bureau of Certification and Licensing.

[FR Doc. 2010-25156 Filed 10-5-10; 8:45 am]

BILLING CODE P